DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed. The Bureau of Labor Statistics (BLS) is soliciting comments concerning the proposed revisions to the confidentiality pledge for the following information collections titles.

OMB Number | Title of survey
1220-0039 | Consumer Price Index Commodities and Services Survey.
1220-0008 | Producer Price Index Survey.
1220-0011 | Report on Employment, Payroll, and Hours.
1220-0164 | National Compensation Survey.
1220-0170 | Job Openings and Labor Turnover Survey (JOLTS).
1220-0189 | Occupational Requirements Survey (Production).
1220-0025 | International Price Program—U.S. Export Product Information.
1220-0163 | Consumer Price Index Housing Survey.
1220-0042 | Report on Occupational Employment.
1220-0045 | Survey of Occupational Injuries.
1220-0133 | Census of Fatal Occupational Injuries.
1220-0012 | Employment, Wages and Contributions Report (ES-202 Program).
1220-0032 | Annual Refiling Survey.
1220-0141 | Cognitive and Psychological Research.
1220-0134 | Multiple Worksite Report and the Report of Federal Employment and Wages.

A copy of the proposed information collection request (ICR) can be obtained by contacting the individual listed below in the Addresses section of this notice.

DATES: Written comments must be submitted to the office listed in the Addresses section of this notice on or before February 6, 2017.

ADDRESSES: Send comments to Nora Kincaid, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Nora Kincaid, BLS Clearance Officer, at 202-691-7628 (this is not a toll free number). (See Addresses section.)

SUPPLEMENTARY INFORMATION:

I. Background

Under 44 U.S.C. 3506(e), and 44 U.S.C. 3501, the Bureau of Labor Statistics is seeking comments on its revisions to the confidentiality pledges it provides to its respondents under the Confidential Information Protection and Statistical Efficiency Act (44 U.S.C. 3501) (CIPSEA). These revisions are required by the passage and implementation of provisions of the Federal Cybersecurity Enhancement Act of 2015 (H.R. 2029, Division N, Title II, Subtitle B, Sec. 223), which require the Secretary of Homeland Security to provide Federal civilian agencies' information technology systems with cybersecurity protection for their Internet traffic.

II. Current Action

Office of Management and Budget clearance is being sought for the information collections listed in the table above.

For each of these information collections, the BLS statistical confidentiality pledges will be modified to include the sentence in bold below.

Per the Federal Cybersecurity Enhancement Act of 2015, Federal information systems are protected from malicious activities through cybersecurity screening of transmitted data.

III. Desired Focus of Comments

The Bureau of Labor Statistics is particularly interested in comments that address the revised pledge language.

Type of Review: Revision, of currently approved collections.

Agency: Bureau of Labor Statistics.

Title and OMB Numbers:

OMB Number | Title of survey
1220-0039 | Consumer Price Index Commodities and Services Survey.
1220-0008 | Producer Price Index Survey.
1220-0011 | Report on Employment, Payroll, and Hours.
1220-0164 | National Compensation Survey.
1220-0170 | Job Openings and Labor Turnover Survey (JOLTS).
1220-0189 | Occupational Requirements Survey (Production).
1220-0025 | International Price Program—U.S. Export Product Information.
1220-0163 | Consumer Price Index Housing Survey.
1220-0042 | Report on Occupational Employment.
1220-0045 | Survey of Occupational Injuries.
1220-0133 | Census of Fatal Occupational Injuries.
1220-0012 | Employment, Wages and Contributions Report (ES-202 Program).
1220-0032 | Annual Refiling Survey.
1220-0141 | Cognitive and Psychological Research.
1220-0134 | Multiple Worksite Report and the Report of Federal Employment and Wages.

Affected Public: Individuals or Households, Private Sector, and State, Local and Tribal.

Total Respondents: Unchanged from current collection.

Frequency: Unchanged from current collection.

Total Responses: Unchanged from current collection.

Average Time per Response: Unchanged from current collection.

Estimated Total Burden Hours: Unchanged from current collection.

Total Burden Cost (capital/startup): $0.

Total Burden Cost (operating/maintenance): $0.

Comments submitted in response to this notice will be summarized and/or included in the request for Office of Management and Budget approval of the information collection request; they also will become a matter of public record.

Signed at Washington, DC, this 29th day of November 2016.
Kimberley Hill,
Chief, Division of Management Systems, Bureau of Labor Statistics.

[FR Doc. 2016-29280 Filed 12-6-16; 8:45 am]

BILLING CODE 4510-24-P